DEPARTMENT OF ENERGY

Western Area Power Administration

[DOE/EIS-0469-S1]

Notice of Cancellation of Environmental Impact Statement for the Proposed Wilton IV Wind Energy Center, Burleigh County, North Dakota

AGENCY: Western Area Power Administration, DOE.

ACTION: Notice of cancellation of Environmental Impact Statement.

SUMMARY: The U.S. Department of Energy (DOE), Western Area Power Administration (WAPA) is issuing this notice to advise the public that it is cancelling the preparation of an environmental impact statement (EIS) under the National Environmental Policy Act (NEPA) on an interconnection request by NextEra Energy Resources, LLC (NextEra).

DATES: This cancellation is effective on April 12, 2017.

FOR FURTHER INFORMATION CONTACT: For additional information on the cancellation of this EIS process, contact Mark Wieringa, NEPA Document Manager, Western Area Power Administration, P.O. Box 281213, Lakewood, CO 80228-8213, email wieringa@wapa.gov, telephone (720) 962-7448. For general information on DOE's NEPA review process, contact Brian Costner, Acting Director of NEPA Policy and Compliance, GC-54, Department of Energy, 1000 Independence Avenue SW., Washington, DC 20585-0119, telephone (202) 586-4600 or (800) 472-2756, facsimile (202) 586-7031.

SUPPLEMENTARY INFORMATION: NextEra, through its subsidiary Wilton Wind IV, LLC proposed to design, construct, operate, and maintain an up to 99-megawatt Wilton IV Wind Energy Center (Project) in Burleigh County, North Dakota, and interconnect that Project with WAPA's transmission system. NextEra's interconnection request caused WAPA to initiate a NEPA review of its Federal action to allow the interconnection. WAPA published a Notice of Intent to prepare an EIS in the Federal Register on July 20, 2011 (76 FR 43324), and started the EIS process. A public scoping meeting was held in Wilton, North Dakota, on July 26, 2011, and a Draft EIS was approved by WAPA's acting Administrator for public review and comment on March 5, 2013. The Environmental Protection Agency's Notice of Availability for the Draft EIS was published in the Federal Register on March 22, 2013 (78 FR 17662). A public hearing on the Draft EIS was held on April 10, 2013, in Wilton, North Dakota.

Subsequent to the issuance of the Draft EIS, NextEra proposed major changes to its proposed Project, including expanding the boundaries of the Project beyond those analyzed in the Draft EIS. Although WAPA's Federal action did not change, WAPA determined that the Project changes proposed by NextEra were substantial changes relevant to environmental concerns. In response to these Project changes, WAPA determined that preparation of a Supplemental Draft EIS was appropriate, and published a Notice of Intent to prepare this NEPA document in the Federal Register on November 20, 2013 (78 FR 69664). A public scoping meeting was held in Wilton, North Dakota, on December 11, 2013, to present Project changes and solicit public input on the modified proposed Project. Work on the preparation of the Supplemental Draft EIS has continued since that date, during which additional Project changes were proposed, including identification of necessary upgrades to WAPA's Bismarck-Hilken 115-kilovolt transmission line.

NextEra has since decided to suspend further action on its proposed Project, and verbally notified WAPA of its decision to withdraw its interconnection request on January 12, 2017. A letter dated February 22, 2017, formally terminated the interconnection agreement. NextEra's decision removes the need for Federal action, and WAPA is now formally terminating the NEPA review process on its interconnection decision and NextEra's proposed Project. No Supplemental Draft EIS, Final EIS, or Record of Decision will be issued for the Wilton IV Wind Energy Center. NextEra could decide to reinitiate the proposed Project or a similar project at some future date. In that event WAPA would initiate a new NEPA process with the issuance of a new Notice of Intent.

On November 16, 2011, the DOE General Counsel re-delegated all EIS authorities to WAPA's Administrator. Under the authority granted by that memorandum, I hereby terminate the EIS process for NextEra's proposed Wilton IV Wind Energy Center with the publication of this notice.

Dated: March 28, 2017.
Mark A. Gabriel,
Administrator.

[FR Doc. 2017-07386 Filed 4-11-17; 8:45 am]

BILLING CODE 6450-01-P